DEPARTMENT OF LABOR

Employee Benefits Security Administration

[Application No. D-11203]

Proposed Class Exemption for the Establishment, Investment and Maintenance of Certain Individual Retirement Plans Pursuant to an Automatic Rollover of a Mandatory Distribution

AGENCY: Employee Benefits Security Administration.

ACTION: Correction.

SUMMARY: In 69 FR, published at page 9846, on March 2, 2004, make the following corrections:

1. On page 9849, in the second column in the 23rd line, delete “29 CFR 2550.401a-2” and insert therein “29 CFR 2550.404a-2.”

2. On page 9851, in the third column in the 23rd line under section IV(e), delete “liquality” and insert therein “liquidity.”

Signed at Washington, DC, this 4th day of March, 2004.
Ivan L. Strasfeld,
Director, Office of Exemption Determinations, Employee Benefits Security Administration, U.S. Department of Labor.

[FR Doc. 04-5277 Filed 3-8-04; 8:45 am]

BILLING CODE 4510-29-M